ENVIRONMENTAL PROTECTION AGENCY

[FRL-6944-9]

Meeting of the Small Community Advisory Subcommittee

AGENCY: Environmental Protection Agency (EPA).

ACTION: Notice.

SUMMARY: The Small Community Advisory Subcommittee (SCAS) will meet on March 1-2, 2001 in Seattle, WA. At this meeting members of the SCAS's Resolution Session Team will present to the full Subcommittee the agreements reached at the Resolution Session on December 8, 2000, for the consideration and acceptance by the full Subcommittee. The Resolution Session was a meeting between a SCAS team and a Local Government Advisory Committee (LGAC) team to address issues regarding how the two groups work together—intra-committee management issues. The Work Groups of the SCAS will update the full Subcommittee on their progress since the previous meeting and will reconvene to work on their Small Community Funding Inventory, Total Maximum Daily Load Survey, Small Town Advocate Proposal, Small Town Enforcement Recommendations, Sustainability Recommendations and Small Business Regulatory Enforcement Fairness Act and Federalism Executive Order 13132 implementation.

The Committee will hear comments from the public between 2 p.m. and 2:15 p.m. on March 2. Each individual or organization wishing to address the Committee will be allowed a minimum of three minutes. Please contact the Designated Federal Officer (DFO) at the number listed below to schedule agenda time. Time will be allotted on a first come, first serve basis.

This is an open meeting and all interested persons are invited to attend. Meeting minutes will be available after the meeting and can be obtained by written request from the DFO. Members of the public are requested to call the DFO at the number listed below if planning to attend so that arrangements can be made to comfortably accommodate attendees as much as possible. However, seating and call-in numbers will be allocated on a first come, first serve basis.

DATES: The meeting will begin at 9 a.m. on Thursday, March 1 and conclude no later than 5 p.m. on March 2, 2001.

ADDRESSES: The meetings will be held at the EPA's Region 10 Office located 1200 Sixth Avenue, Seattle, Washington in the Nisqually Conference Room.

Requests for Minutes and other information can be obtained by writing the DFO at 1200 Pennsylvania Ave., NW. (1306A), Washington, DC 20460.

FOR FURTHER INFORMATION CONTACT: The DFO for this Subcommittee is Anne Randolph. She is the point of contact for information concerning any Subcommittee matters and can be reached by calling (202) 564-3679.

Dated: February 6, 2001.
Anne Randolph,
Designated Federal Officer, Small Community Advisory Subcommittee.

[FR Doc. 01-3871 Filed 2-14-01; 8:45 am]

BILLING CODE 6560-50-P